DEPARTMENT OF LABOR

Employment and Training Administration

Workforce Investment Act; National Farmworkers Jobs Program under Section 167; Notice of renewal of Migrant and Seasonal Farmworker Employment and Training Advisory Committee

In accordance with the provisions of the Federal Advisory Committee Act, the Secretary of Labor has determined that the renewal of the Migrant and Seasonal Farmworker Employment and Training Advisory Committee (the Committee) is in the public interest and is consistent with the requirements of title I, section 167 of the Workforce Investment Act (WIA).

Established under 20 CFR 669.160(b), the Committee will provide advice to the Secretary and the Assistant Secretary for Employment and Training regarding the overall operation and administration of the National Farmworkers Jobs Program (NFJP) authorized under WIA title I, section 167, as well as the implementation of other programs providing services to Migrant and Seasonal Farmworker youth and adults under this Act. The Secretary and Assistant Secretary views the Committee as the primary vehicle to accomplish the Department's commitment to work in partnership with the Migrant and Seasonal Farmworker program community on employment and training issues.

The Committee shall consist of approximately fifteen representatives as follows: twelve from the NFJP grantee community with field experience in the daily operation and administration of migrant and seasonal farmworker programs, appointed by the Secretary from among individuals nominated by NFJP grantee organizations, and three representatives from organizations, associations and other Federal agencies with expertise relative to migrant and seasonal farmworkers, to be appointed directly by the Secretary.

The Committee shall function solely as an advisory body, and in compliance with the provisions of the Federal Advisory Committee Act. Its charter will be filed under the Act fifteen days from the date of publication.

Interested persons are invited to submit comments regarding renewal of the Migrant and Seasonal Farmworker Employment and Training Advisory Committee. Such comments should be addressed to Alicia Fernandez-Mott, Chief, Division of Migrant and Seasonal Farmworker Programs, Office of National Programs, Employment and Training Administration, Room N-4641, 200 Constitution Avenue, NW., Washington, DC 20210. Telephone: (202) 219-5500.

Signed at Washington, DC, this 27th day of November, 2000.
Alexis M. Herman,
Secretary of Labor.

[FR Doc. 00-32408 Filed 12-19-00; 8:45 am]

BILLING CODE 4510-30-M